DEPARTMENT OF THE INTERIOR

Office of the Secretary

[189D0102DM DLSN00000.000000 DS61200000 DX61201; OMB Control Number 1090-0011]

Agency Information Collection Activities; DOI Generic Clearance for the Collection of Qualitative Feedback on Agency Service Delivery

AGENCY: Office of the Secretary, Interior.

ACTION: Notice of information collection; request for comment.

SUMMARY: In accordance with the Paperwork Reduction Act of 1995, we, the Office of the Secretary are proposing to renew an information collection.

DATES: Interested persons are invited to submit comments on or before May 21, 2018.

ADDRESSES: Send your comments on this information collection request (ICR) by mail to the Jeffrey Parrillo, 1849 C Street NW, Washington, DC 20240; or by email to jeffrey_parrillo@ios.doi.gov. Please reference OMB Control Number 1090-0011 in the subject line of your comments.

FOR FURTHER INFORMATION CONTACT: To request additional information about this ICR, contact Jeffrey Parrillo by email at jeffrey_parrillo@ios.doi.gov, or by telephone at 202-208-7072.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Office of the Secretary; (2) will this information be processed and used in a timely manner; (3) is the estimate of burden accurate; (4) how might the Office of the Secretary enhance the quality, utility, and clarity of the information to be collected; and (5) how might the Office of the Secretary minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Title of Collection: DOI Generic Clearance for the Collection of Qualitative Feedback on Agency Service Delivery.

OMB Control Number: 1090-0011.

Form Number: None.

Type of Review: Extension of a currently approved collection.

Respondents/Affected Public: Individuals/households; businesses; and, State, local, and Tribal governments.

Total Estimated Number of Annual Respondents: 11,000 for surveys, 6,000 for comment cards, 500 for focus groups.

Total Estimated Number of Annual Responses: 11,000 for surveys, 6,000 for comment cards, 500 for focus groups.

Estimated Completion Time per Response: 15 minutes for surveys, 2 minutes for comment cards, 2 hours for focus groups.

Total Estimated Number of Annual Burden Hours: 3,950.

Respondent's Obligation: Voluntary.

Frequency of Collection: Once per request.

Total Estimated Annual Nonhour Burden Cost: None.

An agency may not conduct or sponsor and a person is not required to respond to a collection of information unless it displays a currently valid OMB control number.

The authority for this action is the Paperwork Reduction Act of 1995 (44 U.S.C. 3501 et seq.).

Benjamin Simon,
Chief DOI Economist.

[FR Doc. 2018-05838 Filed 3-21-18; 8:45 am]

BILLING CODE 4334-63-P